DEPARTMENT OF THE INTERIOR

National Park Service

Notice of Inventory Completion: Denver Museum of Nature & Science, Denver, CO

AGENCY: National Park Service, Interior.

ACTION: Notice.

Notice is here given in accordance with the Native American Graves Protection and Repatriation Act (NAGPRA), 25 U.S.C. 3003, of the completion of an inventory of human remains in the possession of the Denver Museum of Nature & Science, Denver, CO. The human remains were removed from an unknown site in Minnesota.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by the Denver Museum of Nature & Science professional staff in consultation with representatives of the Assiniboine and Sioux Tribes of the Fort Peck Indian Reservation, Montana; Bois Forte Band (Nett Lake) of the Minnesota Chippewa Tribe, Minnesota; Crow Tribe of Montana; Flandreau Santee Sioux Tribe of South Dakota; Iowa Tribe of Oklahoma; Kiowa Indian Tribe of Oklahoma; Leech Lake Band of the Minnesota Chippewa Tribe, Minnesota; Lower Sioux Indian Community in the State of Minnesota; Menominee Indian Tribe of Wisconsin; Mille Lacs Band of the Minnesota Chippewa Tribe, Minnesota; Nez Perce Tribe of Idaho; Northern Cheyenne Tribe of the Northern Cheyenne Indian Reservation, Montana; Oglala Sioux Tribe of the Pine Ridge Reservation, South Dakota; Ottawa Tribe of Oklahoma; Pawnee Nation of Oklahoma; Prairie Island Indian Community in the State of Minnesota; Rosebud Sioux Tribe of the Rosebud Indian Reservation, South Dakota; Sac and Fox Nation of Missouri in Kansas and Nebraska; Sac and Fox Nation, Oklahoma; Sac and Fox Tribe of the Mississippi in Iowa; Santee Sioux Nation, Nebraska; Sisseton-Wahpeton Oyate of the Lake Traverse Reservation, South Dakota; Standing Rock Sioux Tribe of North & South Dakota; Upper Sioux Community, Minnesota; and Yankton Sioux Tribe of South Dakota.

At an unknown date, human remains representing a minimum of one individual were removed from an unspecified site in Minnesota. In 1940, C.H. Hannington donated the human remains to the Denver Museum of Nature & Science, calling them “Sioux.” No known individual was identified. No associated funerary objects are present.

The human remains are the complete cranium and mandible of an adult female. The skull was identified as Native American by physical anthropologists at the museum. Copper staining around the mastoids suggests that copper ear spools were worn and provides further evidence of Native American identification. Native copper was used prehistorically and copper earrings were also known trade items of Indian people of Minnesota during the historic period.

Written and scholarly accounts of the presence of the Sioux in Minnesota, and information from consultation, indicates that several Sioux groups have occupied large areas of Minnesota for the past several hundred years. Based on donor information, provenience, and tribal consultation the Native American human remains are reasonably believed to be Sioux. The Sioux groups that occupied Minnesota are represented by the Flandreau Santee Sioux Tribe of South Dakota; Prairie Island Indian Community in the State of Minnesota; Santee Sioux Nation, Nebraska; Sisseton-Wahpeton Oyate of the Lake Traverse Reservation, South Dakota; Upper Sioux Community, Minnesota; and Yankton Sioux Tribe of South Dakota.

Officials of the Denver Museum of Nature & Science have determined that, pursuant to 25 U.S.C. 3001, (9-10), the human remains described above represent the physical remains of one individual of Native American ancestry. Officials of the Denver Museum of Nature & Science also have determined that, pursuant to 25 U.S.C. 3001 (2), there is a relationship of shared group identity that can be reasonably traced between the Native American human remains and the Flandreau Santee Sioux Tribe of South Dakota; Prairie Island Indian Community in the State of Minnesota; Santee Sioux Nation, Nebraska; Sisseton-Wahpeton Oyate of the Lake Traverse Reservation, South Dakota; Upper Sioux Community, Minnesota; and Yankton Sioux Tribe of South Dakota.

Representatives of any other Indian tribe that believes itself to be culturally affiliated with the human remains should contact Dr. Stephen Nash, NAGPRA Officer, Department of Anthropology, Denver Museum of Nature & Science, 2001 Colorado Blvd., Denver, CO 80205, telephone (303) 370-6056, before July 5, 2007. Repatriation of the human remains to the Flandreau Santee Sioux Tribe of South Dakota; Prairie Island Indian Community in the State of Minnesota; Santee Sioux Nation, Nebraska; Sisseton-Wahpeton Oyate of the Lake Traverse Reservation, South Dakota; Upper Sioux Community, Minnesota; and Yankton Sioux Tribe of South Dakota may proceed after that date if no additional claimants come forward.

The Denver Museum of Nature & Science is responsible for notifying the Assiniboine and Sioux Tribes of the Fort Peck Indian Reservation, Montana; Bois Forte Band (Nett Lake) of the Minnesota Chippewa Tribe, Minnesota; Crow Tribe of Montana; Flandreau Santee Sioux Tribe of South Dakota; Iowa Tribe of Oklahoma; Kiowa Indian Tribe of Oklahoma; Leech Lake Band of the Minnesota Chippewa Tribe, Minnesota; Lower Sioux Indian Community in the State of Minnesota; Menominee Indian Tribe of Wisconsin; Mille Lacs Band of the Minnesota Chippewa Tribe, Minnesota; Nez Perce Tribe of Idaho; Northern Cheyenne Tribe of the Northern Cheyenne Indian Reservation, Montana; Oglala Sioux Tribe of the Pine Ridge Reservation, South Dakota; Ottawa Tribe of Oklahoma; Pawnee Nation of Oklahoma; Prairie Island Indian Community in the State of Minnesota; Rosebud Sioux Tribe of the Rosebud Indian Reservation, South Dakota; Sac and Fox Nation of Missouri in Kansas and Nebraska; Sac and Fox Nation, Oklahoma; Sac and Fox Tribe of the Mississippi in Iowa; Santee Sioux Nation, Nebraska; Sisseton-Wahpeton Oyate of the Lake Traverse Reservation, South Dakota; Standing Rock Sioux Tribe of North & South Dakota; Upper Sioux Community, Minnesota; and Yankton Sioux Tribe of South Dakota that this notice has been published.

Dated: May 9, 2007
Sherry Hutt,
Manager, National NAGPRA Program.

[FR Doc. E7-10719 Filed 6-1-07; 8:45 am]

BILLING CODE 4312-50-S